DEPARTMENT OF COMMERCE

Foreign-Trade Zones Board

[B-51-2014]

Foreign-Trade Zone 122—Corpus Christi, Texas; Application for Reorganization (Expansion of Service Area) Under Alternative Site Framework

An application has been submitted to the Foreign-Trade Zones (FTZ) Board by the Port of Corpus Christi, Authority, grantee of FTZ 122, requesting authority to reorganize the zone to expand its service area under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on July 18, 2014.

FTZ 122 was approved by the FTZ Board on September 5, 1985 (Board Order 310, 50 FR 38020, 9/19/1985) and reorganized under the ASF on July 16, 2013 (Board Order 1907, 78 FR 44523-44524, 7/24/2013). The zone currently has a service area that includes Nueces, San Patricio, Aransas, Jim Wells, Kleberg and Bee Counties, Texas.

The applicant is now requesting authority to expand the service area of the zone to include Refugio County, Texas, as described in the application. If approved, the grantee would be able to serve sites throughout the expanded service area based on companies' needs for FTZ designation. The proposed expanded service area is adjacent to the Corpus Christi Customs and Border Protection port of entry.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is September 23, 2014. Rebuttal comments in response to material submitted during the foregoing period may be submitted during the subsequent 15-day period to October 8, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: July 18, 2014.
Andrew McGilvray,
Executive Secretary.

[FR Doc. 2014-17471 Filed 7-24-14; 8:45 am]

BILLING CODE 3510-DS-P